DEPARTMENT OF ENERGY

Federal Energy Regulatory Commission

[Docket Nos. EC03-7-000, et al.]

Georgia Power Company, et al.; Electric Rate and Corporate Filings

November 1, 2002.

The following filings have been made with the Commission. The filings are listed in ascending order within each docket classification.

1. Georgia Power Company

[Docket No. EC03-7-000]

Take notice that on October 29, 2002, Georgia Power Company filed with the Federal Energy Regulatory Commission (Commission) an application pursuant to section 203 of the Federal Power Act requesting all necessary authorizations for the transfer of certain transmission facilities from the Municipal Electric Authority of Georgia to Georgia Power Company in exchange for certain real property.

Comment Date: November 29, 2002.

2. EPCOR Energy (U.S.), G.P., EPCOR Merchant and Capital (US) Inc. EPCOR Power Development, Inc. EPDC, Inc., and Frederickson Power L.P.

[Docket No. EC03-8-000]

Take notice that on October 29, 2002, EPCOR Energy (U.S.), G.P., EPCOR Merchant and Capital (US) Inc., EPCOR Power Development, Inc., EPDC, Inc., and Frederickson Power L.P. (the Applicants) filed with the Federal Energy Regulatory Commission (Commission) an application pursuant to Section 203 of the Federal Power Act for authorization of an intracorporate reorganization of the Applicants under a to-be-established U.S. parent, EPCOR Energy (U.S.), G.P.

Comment Date: November 29, 2002.

3. Twin Oaks Power, LP

[Docket No. EG03-10-000]

Take notice that on October 28, 2002, Twin Oaks Power, LP (Twin Oaks) filed with the Federal Energy Regulatory Commission (Commission) an application for determination of exempt wholesale generator status pursuant to part 365 of the Commission's regulations.

Twin Oaks will acquire, own, and operate a two unit, 300 MW lignite-fired electric generating plant known as the TNP One Generating Station, located in Robertson County, Texas. Twin Oaks' principal business offices are located at 101 Ash Street, San Diego, California.

Comment Date: November 22, 2002.

4. Nordic Energy of Ashtabula, L.L.C.

[Docket No. EG03-11-000]

Take notice that on October 30, 2002, Nordic Energy of Ashtabula, L.L.C. (NEA), filed with the Federal Energy Regulatory Commission (Commission) an application for determination of exempt wholesale generator status pursuant to part 365 of the Commission's regulations.

NEA states that it will be engaged either directly or indirectly and exclusively in the business of owning and operating electric generation facilities. Specifically, NEA is developing an electric generating unit in the vicinity of Ashtabula, Ohio.

Comment Date: November 22, 2002.

5. City of Riverside, California

[Docket No. EL03-20-000]

Take notice that on October 29, 2002, the City of Riverside, California (Riverside) submitted a Petition for a Declaratory Order (1) determining that Riverside's proffered Transmission Revenue Requirement (TRR) is appropriate under the California Independent System Operator Corporation's Tariff on file at the Commission for purposes of Riverside's becoming a Participating Transmission Owner; (2) approving Riverside's Transmission Owner (TO) Tariff; (3) waiving the filing fee otherwise applicable to a petition for declaratory order; and (4) granting any other relief or waivers necessary or appropriate for approval or implementation of Riverside's TRR and TO Tariff effective as of the later of January 1, 2003 or the effective date of a Transmission Control Agreement acceptable to Riverside.

Comment Date: November 21, 2002.

6. City of Banning, California

[Docket No. EL03-21-000]

Take notice that on October 29, 2002, the City of Banning, California (Banning) submitted a Petition for a Declaratory Order (1) determining that Banning's proffered Transmission Revenue Requirement (TRR) is appropriate under the California Independent System Operator Corporation's Tariff on file at the Commission for purposes of Banning's becoming a Participating Transmission Owner; (2) approving Banning's Transmission Owner (TO) Tariff; (3) waiving the filing fee otherwise applicable to a petition for declaratory order; and (4) granting any other relief or waivers necessary or appropriate for approval or implementation of Banning's TRR and TO Tariff effective as of the later of January 1, 2003 or the effective date of a Transmission Control Agreement acceptable to Banning.

Comment Date: November 21, 2002.

7. California Independent System Operator Corporation Investigation of Wholesale Rates Of Public Utility Sellers of Energy and Ancillary Services In the Western Electricity Coordinating Council

[Docket Nos. ER02-1656-008 and EL01-68-024]

Take notice that on October 29, 2002, the California Independent System Operator Corporation (ISO) submitted a filing in compliance with the Commission's October 11, 2002 “Order On Rehearing And Compliance Filing,” 100 FERC ¶ 61,061 (2002), and the Commission's October 24, 2002 “Notice of Extension of Time” extending the date for submitting the instant compliance filing, issued in the above-referenced dockets.

The ISO has served this filing upon the Public Utilities Commission of the State of California, the California Energy Commission, the California Electricity Oversight Board, all parties with effective Scheduling Coordinator Service Agreements under the ISO Tariff, and all parties in Docket Nos. EL00-95 and ER02-1656. In addition, the ISO has posted a copy of the filing on its Home Page.

Comment Date: December 2, 2002.

8. Sun River Electric Cooperative, Inc.

[Docket No. ES03-9-000]

Take notice that on October 28, 2002, Sun River Electric Cooperative, Inc. (Sun River) submitted an application pursuant to section 204 of the Federal Power Act seeking authorization to make long-term borrowings under a loan agreement with the National Rural Utilities Cooperative Finance Corporation in an amount not to exceed $13,700,812 at any one time over a two-year period.

Sun River also requests a waiver from the Commission's competitive bidding and negotiated placement requirements at 18 CFR 34.2.

Comment date: November 22, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-28440 Filed 11-7-02; 8:45 am]

BILLING CODE 6717-01-P